DEPARTMENT OF COMMERCE

United States Patent and Trademark Office

[Docket No.: PTO-P-2010-0001]

Request for Comments on Methodology for Conducting an Independent Study of the Burden of Patent-Related Paperwork

AGENCY: United States Patent and Trademark Office.

ACTION: Request for comments.

SUMMARY: The United States Patent and Trademark Office (USPTO) retained ICF International (ICF) to perform an independent study of the burden of patent-related paperwork, beginning with a report describing the methodologies for performing such a study (Methodology Report). ICF has now provided the USPTO with its Methodology Report, in which ICF recommends methodologies for addressing various topics about estimating the patent-related burdens imposed on the public as reflected in information collection requests under the Paperwork Reduction Act of 1995 (PRA). The USPTO is inviting public comment on ICF's Methodology Report.

DATES: Written comments must be received on or before April 12, 2010.

ADDRESSES: Written comments should be sent by electronic mail message over the Internet addressed to pra_study_comments@uspto.gov. Comments may also be submitted by mail addressed to: Mail Stop Comments—Patents, Commissioner for Patents, P.O. Box 1450, Alexandria, VA 22313-1450, marked to the attention of Raul Tamayo. Although comments may be submitted by mail, the USPTO prefers to receive comments via the Internet.

The written comments will be available for public inspection at the Office of the Commissioner for Patents, located in Madison East, Tenth Floor, 600 Dulany Street, Alexandria, Virginia, and will be available via the USPTO Internet Web site (address: http://www.uspto.gov). Because comments will be made available for public inspection, information that is not desired to be made public, such as an address or phone number, should not be included in the comments.

FOR FURTHER INFORMATION CONTACT: Raul Tamayo, Legal Advisor, Office of Patent Legal Administration, Office of the Associate Commissioner for Patent Examination Policy, at (571) 272-7728.

SUPPLEMENTARY INFORMATION: While information collection is critical to evidence-based decisions and informed government operations, unnecessary paperwork requirements can impose serious burdens on the public, especially small entities. The PRA requires Federal agencies to minimize the burden on the public resulting from their information collections, and to maximize the practical utility of the information collected.

As part of its continuing effort to improve the accuracy and transparency of its patent-related PRA burden estimates, the USPTO retained ICF to perform an independent study having the following three overall objectives: (1) Develop an independent, publicly vetted, objectively based estimate of the total cost of paperwork for patent applicants; (2) develop recommendations for continued improvement in the accuracy of burden estimates made by the USPTO in the future; and (3) identify opportunities to reduce applicant burdens. ICF's Methodology Report provides concise descriptions of the methodologies it recommends for conducting specific inter-related analyses for addressing the three overall objectives.

The specific inter-related analyses will be performed independently by ICF and will provide impartial, fact-based results. The approaches described in ICF's Methodology Report for performing the analyses were developed independently by ICF, and are ICF's recommendations regarding the most efficient and effective ways to complete the analyses and to meet the overall objectives for the study.

The USPTO is inviting comments from the public regarding ICF's Methodology Report. The USPTO posted the Methodology Report on its Internet Web site (http://www.uspto.gov) on February 25, 2010, with a notice requesting public comment on the Methodology Report and indicating that written comments must be received on or before April 12, 2010, to receive consideration.

Dated: February 19, 2010.
David J. Kappos,
Under Secretary of Commerce for Intellectual Property and Director of the United States Patent and Trademark Office.

[FR Doc. 2010-3882 Filed 2-24-10; 8:45 am]

BILLING CODE 3510-16-P